DEPARTMENT OF COMMERCE

Membership of the Departmental Performance Review Board

Agency: Department of Commerce.

Action: Notice of Membership on the Departmental Performance Review Board.

SUMMARY: In accordance with 5 U.S.C., 4314(c)(4), Department of Commerce (DOC) announces the appointment of persons to serve as members of the Departmental Performance Review Board (DPRB). The DPRB provides an objective peer review of the initial performance ratings, performance-based pay adjustment and bonus recommendations, higher-level review requests and other performance-related actions submitted by appointing authorities for Senior Executive Service (SES) members whom they directly supervise, and makes recommendations based on its review. The term of the new members of the DPRB will expire December 31, 2009.

DATES: Effective Date: The effective date of service of appointees to the Departmental Performance Review Board is upon publication of this notice.

FOR FURTHER INFORMATION CONTACT: Denise A. Yaag, Director, Office of Executive Resources, Office of Human Resources Management, Office of the Director, 14th and Constitution Avenue, NW., Washington, DC 20230, (202) 482-3600.

SUPPLEMENTARY INFORMATION: The names and position titles of the members of the DPRB are set forth below by organization:

Department of Commerce Departmental Performance Review Board Membership 2007-2009

Office of the Secretary: Tracey S. Rhoades, Director, Executive Secretariat.

Office of General Counsel: Michael A. Levitt, Assistant General Counsel for Legislation and Regulation; Joan Maginnis, Assistant General Counsel for Finance and Litigation.

Chief Financial Officer and Assistant Secretary for Administration: William J. Fleming, Deputy Director for Human Resources Management.

Office of the Chief Information Officer: John W. McManus, Deputy Chief Information Officer.

Bureau of Industry and Security: Gay G. Shrum, Director of Administration.

Bureau of the Census: C. Harvey Monk, Assistant Director for Economic Programs.

Economics and Statistics Administration: James K. White, Associate Under Secretary for Management.

Economics and Development Administration: Matthew Crow, Deputy Assistant Secretary for External Affairs and Communication.

International Trade Administration: Michelle O'Neill, Deputy Under Secretary for International Trade; Stephen P. Jacobs, Director, Office of Policy Coordination.

Minority Business Development Agency: Edith J. McCloud, Associate Director for Management.

National Oceanic and Atmospheric Administration: Robert J. Byrd, Chief Financial Officer/Chief Administrative Officer, NWS; Joseph F. Klimavicz, Chief Information Officer and Director of High Performance Computing and Communications; Elizabeth R. Scheffler, Associate Assistant Administrator for Management and CFO/CAO, NOS; Maureen Wylie, Chief Financial Officer; Kathleen A. Kelly, Director, Office of Satellite Operations, NESDIS.

National Technical Information Service: Ellen Herbst, Director, National Technical Information Service.

National Telecommunications and Information Administration: Daniel C. Hurley, Director, Communications and Information Infrastructure Assurance Program.

National Institute of Standards and Technology: James M. Turner, Deputy Director.

Dated: July 18, 2007.
Denise A. Yaag,
Director, Office of Executive Resources.

[FR Doc. 07-3886 Filed 8-8-07; 8:45 am]

BILLING CODE 3510-BS-M